DEPARTMENT OF HOMELAND SECURITY

Coast Guard

33 CFR Part 117

[CGD01-07-006]

Drawbridge Operation Regulations; Acushnet River, New Bedford and Fairhaven, MA

AGENCY: Coast Guard, DHS.

ACTION: Notice of temporary deviation from regulations.

SUMMARY: The Commander, First Coast Guard District, has issued a temporary deviation from the regulation governing the operation of the Route 6 highway bridge across the Acushnet River, mile 0.0, between New Bedford and Fairhaven, Massachusetts. Under this temporary deviation a 30-minute advance notice for bridge openings shall be required between 7 a.m. and 5 p.m., Monday through Friday, from January 8, 2007 through February 2, 2007. This deviation is necessary to facilitate emergency bridge fender repairs.

DATES: This deviation is effective from January 8, 2007 through February 2, 2007.

ADDRESSES: Materials referred to in this document are available for inspection or copying at the First Coast Guard District, Bridge Branch Office, 408 Atlantic Avenue, Boston, Massachusetts, 02110, between 7 a.m. and 3 p.m., Monday through Friday, except Federal holidays. The telephone number is (617) 223-8364. The First Coast Guard District Bridge Branch Office maintains the public docket for this temporary deviation.

FOR FURTHER INFORMATION CONTACT: John McDonald, Project Officer, First Coast Guard District, at (617) 223-8364.

SUPPLEMENTARY INFORMATION: The Route 6 highway bridge, across the Acushnet River, mile 0.0, between New Bedford and Fairhaven, Massachusetts, has a vertical clearance in the closed position of 8 feet at mean high water and 12 feet at mean low water. The existing drawbridge operation regulations are listed at 33 CFR 117.585.

The owner of the bridge, Massachusetts Highway Department, requested a temporary deviation to facilitate emergency bridge protective fender repairs. The bridge fender system on the east channel was recently damaged by a vessel allision. The damaged fender system must be repaired as soon as possible in the interest of navigational safety.

Under this temporary deviation the Route 6 highway bridge shall require at least a 30-minute advance notice for bridge openings between 7 a.m. and 5 p.m., Monday through Friday, from January 8, 2007 through February 2, 2007.

The bridge will continue to open in accordance with the normal operating schedule which requires the bridge to open on the hour between 6 a.m. and 10 a.m. and at a quarter past the hour between 11:15 a.m. and 6:15 p.m. However, in order to perform necessary bridge repairs, a 30 minute advance notice for such openings is required between 7 a.m. and 5 p.m., Mondays through Fridays from January 8 through February 2, 2007.

During this period the bridge shall open at any time for vessels whose draft exceeds 15 feet. However, such vessels must also provide 30 minute advance notice.

In accordance with 33 CFR 117.35, this work will be performed with all due speed in order to return the bridge to normal operation as soon as possible.

Should the bridge maintenance authorized by this temporary deviation be completed before the end of the effective period published in this notice, the Coast Guard will rescind the remainder of this temporary deviation, and the bridge shall be returned to its normal operating schedule. Notice of the above action shall be provided to the public in the Local Notice to Mariners and the Federal Register, where practicable.

This deviation from the operating regulations is authorized under 33 CFR 117.35.

Dated: January 3, 2007.
Gary Kassof,
Bridge Program Manager, First Coast Guard District.

[FR Doc. E7-240 Filed 1-10-07; 8:45 am]

BILLING CODE 4910-15-P